SOCIAL SECURITY ADMINISTRATION

[Docket No: SSA-2016-0062]

Agency Information Collection Activities: Comment Request

The Social Security Administration (SSA) publishes a list of information collection packages requiring clearance by the Office of Management and Budget (OMB) in compliance with Public Law 104-13, the Paperwork Reduction Act of 1995, effective October 1, 1995. This notice includes revisions and one extension of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB)

Office of Management and Budget, Attn: Desk Officer for SSA, Fax: 202-395-6974, Email address: OIRA_Submission@omb.eop.gov.

(SSA)

Social Security Administration, OLCA, Attn: Reports Clearance Director, 3100 West High Rise, 6401 Security Blvd., Baltimore, MD 21235, Fax: 410-966-2830, Email address: OR.Reports.Clearance@ssa.gov.

Or you may submit your comments online through www.regulations.gov, referencing Docket ID Number [SSA-2016-0062].

II. SSA submitted the information collections below to OMB for clearance. Your comments regarding the information collections would be most useful if OMB and SSA receive them 30 days from the date of this publication. To be sure we consider your comments, we must receive them no later than December 30, 2016. Individuals can obtain copies of the OMB clearance packages by writing to OR.Reports.Clearance@ssa.gov.

1. Missing and Discrepant Wage Reports Letter and Questionnaire—26 CFR 31.6051-2—0960-0432. Each year employers report the wage amounts they paid their employees to the Internal Revenue Service (IRS) for tax purposes, and separately to SSA for retirement and disability coverage purposes. Employers should report the same figures to SSA and the IRS; however, each year some of the employer wage reports SSA receives show wage amounts lower than those employers report to the IRS. SSA uses Forms SSA-L93-SM, SSA-L94-SM, SSA-95-SM, and SSA-97-SM to ensure employees receive full credit for their wages. Respondents are employers who reported lower wage amounts to SSA than they reported to the IRS.

Type of Request: Revision of an OMB-approved information collection.

Modality of completion | Number of responses | Frequency of response | Average burden per response (minutes) | Estimated total annual burden (hours)
SSA-95-SM and SSA-97-SM (and accompanying cover letters SSA-L93, L94) | 360,000 | 1 | 30 | 180,000

2. Application for Supplemental Security Income—20 CFR 416.305-416.335, Subpart C—0960-0444. SSA uses Form SSA-8001-BK to determine an applicant's eligibility for Supplemental Security Income (SSI) and SSI payment amounts. SSA employees also collect this information during interviews with members of the public who wish to file for SSI. SSA uses the information for two purposes: (1) To formally deny SSI for non-medical reasons when information the applicant provides results in ineligibility; or (2) to establish a disability claim, but defer the complete development of non-medical issues until SSA approves the disability. The respondents are applicants for SSI.

Note: This is a correction notice: SSA published the incorrect burden information for this collection at 81 FR 81224, on 11/17/16. We are correcting this error here.

Type of Request: Revision of an OMB-approved information collection.

Modality of completion | Number of respondents | Frequency of response | Average burden per response (minutes) | Estimated total annual burden (hours)
MSSICS/Signature Proxy | 537,207 | 1 | 20 | 179,069
iClaim/MSSICS | 162,945 | 1 | 20 | 54,315
SSA-8001-BK (Paper Version) | 1,033 | 1 | 20 | 344
Totals | 701,185 |  |  | 233,728

3. Incorporation by Reference of Oral Findings of Fact and Rationale in Wholly Favorable Written Decisions (Bench Decision Regulation)—20 CFR 404.953 and 416.1453—0960-0694. If an administrative law judge (ALJ) makes a wholly favorable oral decision, including all the findings and rationale for the decision for a claimant of Title II or Title XVI payments, at an administrative appeals hearing, the ALJ sends a Notice of Decision (Form HA-82), as the records from the oral hearing preclude the need for a written decision. We call this the incorporation-by-reference process. In addition, the regulations for this process state that if the involved parties want a record of the oral decision, they may submit a written request for these records. SSA collects identifying information under the aegis of Sections 20 CFR 404.953 and 416.1453 of the Code of Federal Regulations to determine how to send interested individuals written records of a favorable incorporation-by-reference oral decision made at an administrative review hearing. Since there is no prescribed form to request a written record of the decision, the involved parties send SSA their contact information and reference the hearing for which they would like a record. The respondents are applicants for Disability Insurance Benefits and SSI payments, or their representatives, to whom SSA gave a wholly favorable oral decision under the regulations cited above.

Type of Request: Extension of an OMB-approved information collection.

Modality of collection | Number of respondents | Frequency of response | Average burden per response (minutes) | Estimated total annual burden (hours)
HA-82 | 2,500 | 1 | 5 | 208

4. Request for Waiver of Special Veterans Benefits (SVB) Overpayment Recovery or Change in Repayment Rate—20 CFR 408.900-408.950—0960-0698. Title VIII of the Social Security Act requires SSA to pay a monthly benefit to qualified World War II veterans who reside outside the United States. When an overpayment in this SVB occurs, the beneficiary can request a waiver of recovery of the overpayment or a change in the repayment rate. SSA uses the SSA-2032-BK to obtain the information necessary to establish whether the claimant meets the waiver of recovery provisions of the overpayment, and to determine the repayment rate if we do not waive repayment. Respondents are SVB beneficiaries who have overpayments on their Title VIII record and wish to file a claim for waiver of recovery or change in repayment rate.

Type of Request: Revision of an OMB-approved information collection.

Modality of completion | Number of respondents | Frequency of response | Average burden per response (minutes) | Estimated total annual burden (hours)
SSA-2032-BK | 450 | 1 | 120 | 900

5. Consent Based Social Security Number Verification Process—20 CFR 400.100—0960-0760. The Consent Based Social Security Number Verification (CBSV) process is a fee-based automated Social Security number (SSN) verification service available to private businesses and other requesting parties. To use the system, private businesses and requesting parties must register with SSA and obtain valid consent from SSN holders prior to verification. We collect the information to verify if the submitted name and SSN match the information in SSA records. After completing a registration process and paying the fee, the requesting party can use the CBSV process to submit a file containing the names of number holders who gave valid consent, along with each number holder's accompanying SSN and date of birth (if available) to obtain real-time results using a web service application or SSA's Business Services Online (BSO) application. SSA matches the information against the SSA master file of SSNs, using SSN, name, date of birth, and gender code (if available). The requesting party retrieves the results file from SSA, which indicates only a match or no match for each SSN submitted. Under the CBSV process, the requesting party does not submit the consent forms of the number holders to SSA. SSA requires each requesting party to retain a valid consent form for each SSN verification request. The requesting party retains the consent forms in either electronic or paper format.

SSA added a strong audit component to ensure the integrity of the CBSV process. At the discretion of the agency, we require audits (called “compliance reviews”) with the requesting party paying all audit costs. Independent certified public accountants (CPAs) conduct these reviews to ensure compliance with all the terms and conditions of the party's agreement with SSA, including a review of the consent forms. CPAs conduct the reviews at the requesting party's place of business to ensure the integrity of the process. In addition, SSA reserves the right to perform unannounced onsite inspections of the entire process, including review of the technical systems that maintain the data and transaction records. The respondents to the CBSV collection are the participating companies; members of the public who consent to the SSN verification; and CPAs who provide compliance review services.

Type of Request: Revision of an OMB-approved information collection.

Time Burden

Participating Companies
Requirement | Number of respondents | Frequency of response | Number of responses | Average burden per response (minutes) | Total estimated annual burden (hours)
Registration process for new participating companies | * 13 | 1 | 13 | 120 | 26
Creation of file with SSN holder identification data; maintaining required documentation/forms | 90 | ** 251 | 22,590 | 60 | 22,590
Using the system to upload request file, check status, and download results file | 90 | 251 | 22,590 | 5 | 1,883
Storing Consent Forms | 90 | 251 | 22,590 | 60 | 22,590
Activities related to compliance review | 90 | 251 | 22,590 | 60 | 22,590
Total |  |  | 90,373 |  | 69,679
* One-time registration process/approximately 14 new participating companies per year.
** Please note there are 251 Federal business days per year on which a requesting party could submit a file.

Participating Companies Who Opt for External Testing Environment (ETE)
Requirement | Number of respondents | Frequency of response | Number of responses | Average burden per response (minutes) | Total estimated annual burden (hours)
ETE Registration Process (includes reviewing and completing ETE User Agreement) | 20 | 1 | 1 | 180 | 60
Web Service Transactions | 20 | 1 | 1 | 50 | 17
Reporting Issues Encountered on Web service testing (e.g., reports on application's reliability) | 20 | 1 | 1 | 50 | 17
Reporting changes in users' status (e.g., termination or changes in users' employment status; changes in duties of authorized users) | 20 | 1 | 1 | 60 | 20
Cancellation of Agreement | 20 | 1 | 1 | 30 | 10
Dispute Resolution | 20 | 1 | 1 | 120 | 40
Total | 20 |  | 104 |  | 164

People Whose SSNs SSA Will Verify
Requirement | Number of respondents | Frequency of response | Number of responses | Average burden per response (minutes) | Estimated annual burden (hours)
Reading and signing authorization for SSA to release SSN verification | 2,800,000 | 1 | 2,800,000 | 3 | 140,000
Responding to CPA re-contact | 5,750 | 1 | 5,750 | 5 | 479
Total | 2,805,750 |  | 2,805,750 |  | 140,479

There is one CPA respondent conducting compliance reviews and preparing written reports of findings. The average burden per response is 4,800 minutes for a total burden of 7,200 hours annually.

Cost Burden

The public cost burden is dependent upon the number of companies and transactions. SSA based the cost estimates below upon 90 participating companies submitting a total 2.8 million transactions per year.

One-Time Per Company Registration Fee—$5,000.

Estimated per SSN Transaction Fee—$1.40.¹

¹ The annual costs associated with the transaction to each company are dependent upon the number of SSN transactions submitted to SSA by the company on a yearly basis. For example, if a company anticipates submitting 1 million requests to SSA for the year, its total transaction cost for the year would be $1.40 × 1,000,000, or $1,400,000. Periodically, SSA will calculate our costs to provide CBSV services and adjust the fee charged as needed. SSA notifies companies in writing and via Federal Register Notice of any changes and companies have the opportunity to cancel the agreement or continue service using the new transaction fee.

Estimated per Company Cost to Store Consent Forms—$300.

Date: November 25, 2016.
Naomi R. Sipple,
Reports Clearance Officer, Social Security Administration.

[FR Doc. 2016-28822 Filed 11-29-16; 8:45 am]

BILLING CODE 4191-02-